DEPARTMENT OF JUSTICE

Notice of Lodging of Consent Decree Under Clean Air Act

Notice is hereby given that a consent decree in United States v. Kenneth McDonald and Nicholas Menegatos, C.A. No. 3:CV-01-0510, was lodged on September 11, 2001, with the United States District Court for the Middle District of Pennsylvania. This notice was previously published in the Federal Register on October 4, 2001 and the public was given 30 days to comment. No comments were received. However, because of severe disruption in the mail service, the United States is unable to conclude with certainty that any comments mailed in response to that notice would have been received. As a result, the United States is providing this opportunity for any prior persons who previously submitted comments to resubmit their comments as directed below.

The consent decree resolves the United States' claims against Defendant Nicholas Menegatos for violations of the Clean Air Act, 42 U.S.C. 7401-7671q, and the National Emission Standards for Hazardous Air Pollutants for asbestos (“asbestos NESHAP”), 40 CFR part 61, with respect to the partial demolition of a facility, located in Tannersville, Pennsylvania.

Under the consent decree, Defendant Menegatos, based upon his ability-to-pay, has agreed to pay a civil penalty in the amount of $2700 and has agreed to take a training course that will familiarize him with the Clean Air Act and the asbestos NESHAP regulations.

The Department of Justice will receive, for a period of twenty (20) days from the date of this publication, comments relating to the proposed consent decree. Comments previously submitted by mail should be resubmitted to the Acting Assistant Attorney General for the Environment and Natural Resources Division, Department of Justice, Washington, DC 20530, and should refer to United States v. Kenneth McDonald and Nicholas Menegatos, C.A. No. 3:CV-01-0510, DOJ Reference No. 90-5-2-1-2217. The comments should be faxed to the Acting Assistant Attorney General at 202/616-6583.

The proposed consent decree may be examined at the Office of the United States Attorney, 228 Walnut Street, Harrisburg, Pennsylvania 17108; and the Region III Office of the Environmental Protection Agency, 1650 Arch Street, Philadelphia, Pennsylvania 19103. A copy of the proposed consent decree may be obtained by mail from the Department of Justice Consent Decree Library, P.O. Box 7611, Washington, DC 20044. In requesting a copy, please refer to the referenced case and enclose a check in the amount of $5.75 (.25 cents per page production costs), payable to the Consent Decree Library.

Robert D. Brook,
Assistant Chief, Environmental Enforcement Section, Environment and Natural Resources Division.

[FR Doc. 01-32218 Filed 12-31-01; 8:45 am]

BILLING CODE 4410-15-M